FEDERAL COMMUNICATIONS COMMISSION

47 CFR Part 73

[DA 05-766; MB Docket No. 05-151; RM-11222]

Radio Broadcasting Services; Llano, TX

AGENCY: Federal Communications Commission.

ACTION: Proposed rule.

SUMMARY: This document requests comments on a petition for rulemaking filed by Linda Crawford, proposing the allotment of Channel 297A at Llano, Texas, as its fourth FM commercial broadcast transmission service. To accommodate the allotment at Llano, Petitioner has requested a site change for vacant Channel 297A at Junction, Texas. Channel 297A can be allotted to Llano consistent with the minimum distance separation requirements of the Commission's Rules with a site restriction 6.1 kilometers (3.8 miles) west of the community at coordinates 30-46-00 NL and 98-44-15 WL. The proposed new site for Channel 297A at Junction, 30-24-15 NL and 99-51-45 WL, is in compliance with the Commission's spacing requirements. This site is 12.8 kilometers (8.0 miles) southwest of the community, whereas the original site for Channel 297A at Junction was 3.5 kilometers (2.2 miles) south of the community. The existing coordinates for the vacant Channel 297A at Junction are 30-27-27 NL and 99-46-07 WL. We seek comment on the proposed site change for vacant Channel 297A at Junction from interested parties.

DATES: Comments must be filed on or before May 12, 2005, and reply comments on or before May 27, 2005.

ADDRESSES: Secretary, Federal Communications Commission, 445 Twelfth Street, SW., Washington, DC 20554. In addition to filing comments with the FCC, interested parties should serve the petitioner as follows: Linda Crawford, 3500 Maple Avenue, #1320, Dallas, Texas 75219.

FOR FURTHER INFORMATION CONTACT: Rolanda F. Smith, Media Bureau, (202) 418-2180.

SUPPLEMENTARY INFORMATION: This is a synopsis of the Commission's Notice of Proposed Rule Making, MB Docket No. 05-151, adopted March 23, 2005, and released March 25, 2005. The full text of this Commission decision is available for inspection and copying during normal business hours in the FCC's Reference Information Center at Portals II, CY-A257, 445 Twelfth Street, SW., Washington, DC. The complete text of this decision may also be purchased from the Commission's duplicating contractor, Best Copy and Printing, Inc., 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Texas, is amended by adding Channel 297A at Llano.

Federal Communications Commission.
John A. Karousos,
Assistant Chief, Audio Division, Media Bureau.

[FR Doc. 05-7057 Filed 4-12-05; 8:45 am]

BILLING CODE 6712-01-P